DEPARTMENT OF HOMELAND SECURITY

Transportation Security Administration

Intent To Request Approval From OMB of One New Public Collection of Information: Registered Traveler (RT) Program; Satisfaction and Effectiveness Measurement Data Collection Instruments

AGENCY: Transportation Security Administration (TSA), DHS.

ACTION: Notice.

SUMMARY: TSA invites public comment on the new information collection requirement abstracted below that will be submitted to the Office of Management and Budget (OMB) in compliance with the Paperwork Reduction Act of 1995.

DATES: Send your comments by February 14, 2006.

ADDRESSES: Comments may be delivered to Kurt Zobrist, Director, Registered Traveler Program, Office of Transportation Threat Assessment and Credentialing, TSA Headquarters, TSA-19, 601 South 12th Street, Arlington, VA 22202-4220; or by e-mail at kurt.zobrist@dhs.gov.

FOR FURTHER INFORMATION CONTACT: Katrina Wawer, Information Collection Specialist, Office of Transportation Security Policy, TSA-9, Transportation Security Administration, 601 South 12th Street, Arlington, VA 22202-4220; or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for submission of clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Information Collection Requirement

Purpose of Data Collection

TSA plans to conduct a domestic Registered Traveler (RT) program nation-wide in 2006. This program is designed to positively identify individuals participating in the program as registered travelers via advanced identification technologies, for the purposes of expediting those passengers' travel experience at the airport security checkpoints, and thereby enabling TSA to improve the allocation of security resources at TSA security checkpoints in the Nation's airports.

Description of Data Collection

Via a private sector enrollment provider, TSA will receive and retain a minimal amount of personal information from volunteers who choose to enroll in the RT Program. This information will be used to verify an applicant's claimed identity and complete a security threat assessment on each applicant prior to acceptance into the RT program.

In addition, TSA will administer two instruments to measure customer satisfaction and to collect data on the effectiveness of the program technologies and business processes. The first instrument will be a survey of a representative percentage of the RT Program participants. The second instrument will be an interview conducted with the key stakeholders (including airport authorities, air carriers and certified service providers) participating in the RT Program. All surveys and interviews will be voluntary and anonymous.

The collection of information from individuals who volunteer to participate in the RT Program will be gathered electronically. This not only fulfills the requirements of the Government Paperwork Elimination Act, but it also facilitates the collection and processing of the data and provides an efficient means of retrieving credential information. Due to practical considerations, the RT customer service surveys will be conducted electronically, when possible, and interviews will be conducted manually. Respondents to any service may freely choose not to participate. The respondents who choose to participate in the surveys will be asked to return the completed survey in less than 30 days from the time of receipt. They may choose not to comply with this request.

Key stakeholders involved in the RT Program will be asked to designate representative(s) to participate in short, individual interview sessions intended to evaluate the effectiveness of the RT Program from the stakeholders' perspective and to gather any additional feedback the stakeholder may wish to share. Interview sessions will be conducted on a one-on-one basis at mutually agreed upon locations. Stakeholders may choose not to participate in the interview sessions.

Burden Estimates of Data Collection

TSA expects a total of 600,000 respondents to participate per year and, based on an estimate of a 10-minute burden per respondent, a maximum total burden program-wide of 100,000 hours per year. This estimate is based on an expected program roll-out schedule modeled by TSA. The roll-out schedule assumes the number of airports that are approved to participate in the program, as well as the number of volunteers that will choose to enroll. It is expected that the overall burden of enrollment will decrease year to year based on the number of people already in the program. The Registered Traveler Program is a fully fee-based program. Volunteer enrollees will be required to pay an annual fee to cover the Government's costs of the program and to compensate private sector enrollment providers. The cost burden of enrollment will be the direct cost of collecting information and conducting a security threat assessment on the enrollee. This is estimated at $50 per enrollee for a total annual cost burden of $30,000,000.

Another source for data collection is customer survey submissions. TSA expects a total of 37,500 respondents (TSA will send surveys to approximately 25 percent of the population; with an expected e-survey return rate of 25 percent) and, based on an estimate of a 15-minute burden per respondent, a maximum total burden program-wide of 9,375 hours per year.

For the stakeholder interview sessions, TSA expects approximately 60 stakeholder representatives to participate per year (representatives from all participating airports, service providers, and interested air carriers) and, based on an estimate of a 60-minute burden per interview, a maximum total burden of 60 hours. There will be no cost burden to any survey respondent or stakeholder interviewee.

Thus, TSA estimates the total annual hour burden to be 109,435 hours.

Use of Results

TSA will use the results of the biographic and biometric data collection to verify an applicant's claimed identity and to perform a security threat assessment on the individual volunteering for the program and check immigration status to ensure eligibility for the program. The security threat assessment is essential for TSA to determine whether the applicant presents, or is suspected of presenting, a threat to transportation security. Individuals who do not pose, or are not suspected of posing, a threat to transportation security, and otherwise meet all other eligibility requirements for the RT program, will be afforded enhanced benefits at the TSA security checkpoints.

TSA Headquarters personnel and individual service providers, air carriers, and airports will use the results of the surveys and interviews to evaluate and improve customer service and operational efficiency of this program.

Issued in Arlington, Virginia, on December 12, 2005.
Lisa S. Dean,
Privacy Officer.

[FR Doc. E5-7407 Filed 12-15-05; 8:45 am]

BILLING CODE 4910-62-P